DEPARTMENT OF DEFENSE

Department of the Army

Notice of Availability of the Draft Supplemental Programmatic Environmental Impact Statement for Army Growth and Force Structure Realignment To Support Operations in the Pacific Theater

AGENCY: Department of the Army, DOD.

ACTION: Notice of availability.

SUMMARY: The Department of the Army announces the availability of a Draft Supplemental Programmatic Environmental Impact Statement (DSPEIS) for the growth and realignment of the United States Army to support Operations in the Pacific Theater. The Department of the Army has prepared a DSPEIS that evaluates the potential environmental and socioeconomic effects associated with alternatives for implementing the growth, realignment, and transformation of the Army's forces to support Operations in the Pacific Theater. Potential impacts have been analyzed in the DSPEIS at installations that are capable of supporting operations in the Pacific Theater.

DATES: The public comment period will end 45 days after publication of a Notice of Availability in the Federal Register by the U.S. Environmental Protection Agency.

ADDRESSES: Send all written comments and suggestions concerning this DSPEIS to: Public Affairs Office, U.S. Army Environmental Command, Building E4460, Attention: IMAE-PA 5179 Hoadley Road, Aberdeen Proving Ground, MD 21010-5401. Comments may also be sent to: APGR-USAECPublicComments@conus.army.mil.

FOR FURTHER INFORMATION CONTACT: Public Affairs Office at (410) 436-2556 or facsimile at (410) 436-1693 during normal business hours 9 a.m. to 5 p.m. Eastern Daylight Time, Monday through Friday.

SUPPLEMENTARY INFORMATION: The Army's Proposed Action and analysis within the DSPEIS covers those activities the Army may undertake from 2008 through 2013 to grow, realign, and transform its forces to support operations in the Pacific Theater. Implementation of the Proposed Action will ensure the proper capabilities exist to sustain operations and regional security in the Pacific Theater now and into the foreseeable future. The implementation of the Proposed Action will better meet military operational needs, national and regional security requirements, and the needs of the Army's Soldiers and their Families. To implement the Proposed Action, new units with critical military skills must be stationed at locations that are capable of supporting strategic deployment and mobilization requirements in the Pacific Theater. These stationing locations must be capable of accommodating unit training, garrison operations, maintenance activities, and the needs of Soldiers and their Families.

The current global security environment is turbulent, unpredictable, and rapidly changing. It has placed considerable demands on the nation's military, and highlighted the need for the Army to correct shortfalls in high-demand skills while reassessing its force capabilities. No one has felt the impacts of the recent demands of the modern security environment more than Soldiers and their Families. To meet the challenges of the 21st century security environment, the Army requires the growth and restructuring of its forces to support operations across the Pacific Theater to sustain the broad range of missions required to promote regional, national, and global stability.

The DSPEIS supplements the Army's Final Programmatic EIS for Army Growth and Force Structure Realignment (2007). The DSPEIS examines major Army training installations that were not in the 2007 PEIS, but are capable of supporting operations in the Pacific Theater and the ability of those installations to support new unit stationing actions. The DSPEIS includes analysis of specific actions that will need to be taken (such as the construction of housing and quality of life facilities, the construction of new training ranges and infrastructure, and changes in the intensity of use of maneuver land and firing ranges) to station new units as part of the Army's overall efforts to grow and realign the force.

The Army has considered a full range of sites for implementing the Proposed Action. Alternative stationing locations that the Army is considering for supporting the Proposed Action include the major training installations the Army considered in its 2007 programmatic EIS as well as four additional installations in Hawaii and Alaska. Additional installations include Schofield Barracks Military Reservation (SBMR), HI; Fort Shafter, HI; Fort Richardson, AK; and Fort Wainwright, AK. Each of these installations could receive additional Soldiers as part of alternatives being examined.

Alternatives in the DSPEIS include stationing of additional Combat Support (CS) or Combat Service Support (CSS) units or new support brigades. The following alternatives will be analyzed in the SPEIS: (1) Support operations in the Pacific Theater by implementing Army-wide modular force and transformation recommendations within U.S. Army Pacific. This alternative involves the stationing of approximately 1,500-2,000 Soldiers at Army installations in Hawaii and Alaska; (2) In addition to Army growth under Alternative 1, Alternative 2 includes growth and transformation of Army forces to support operations in the Pacific Theater by stationing additional Combat Support (CS) and Combat Service Support (CSS) units in locations capable of supporting these operations. The Army would station approximately 1,500-2,500 additional CS and CSS Soldiers beyond Alternative 1; (3) In addition to Army growth under Alternatives 1 and 2, as part of Alternative 3 the Army would grow, transform, and realign forces by stationing additional support brigades in locations capable of supporting operations in the Pacific Theater. Support brigades could include the stationing of an additional Maneuver Enhancement Brigade (570 Soldiers), a Combat Aviation Brigade (2,800 Soldiers), or a Field Artillery Brigade (approximately 1,500 Soldiers).

In addition to the above alternatives, the No Action Alternative will be considered and used as a baseline for comparison of alternatives. It is not a viable means for meeting the current and future strategic security and defense requirements of the nation. The No Action Alternative would retain U.S. Army forces in their current end strength and force structure. The No Action Alternative includes the implementation of stationing actions directed by Base Realignment and Closure legislation in 2005, Army Global Defense Posture Realignment, Army Modular Forces initiatives, and Army Growth and Force Structure Realignment decisions published in January 2008.

The DSPEIS covers those activities required to implement unit stationing actions associated with Army growth and force structure realignment to support operations in the Pacific Theater. Actions the Army will take to support unit stationing include the construction of housing and quality of life facilities (i.e., gymnasiums, hospitals, shopping areas), the construction of new training ranges and infrastructure, and changes in the intensity of use of maneuver land and firing ranges associated with the increased frequency of training events.

The DSPEIS identifies the environmental and socioeconomic impacts associated with various unit stationing actions that could be implemented to support the Proposed Action. Decisions from the SPEIS will be tiered into sitespecific NEPA analysis at the installation level after stationing decisions are made.

The Army invites full public participation to promote open communication and better decision making. All persons and organizations that have an interest in the growth and realignment of the Army's forces and associated stationing actions are invited to participate in this NEPA evaluation process. Assistance will be provided upon request to anyone having difficulty understanding how to participate.

Written comments on the DSPEIS will be accepted for 45 days following the publication of a Notice of Availability in the Federal Register by the U.S. Environmental Protection Agency. Information on the DSPEIS will be posted on the U.S. Army Environmental Command's Web site, http://www.aec.army.mil, for public access during the public comment period.

Dated: May 14, 2008.
Addison D. Davis, IV,
Deputy Assistant Secretary of the Army, (Environment, Safety, and Occupational Health).

[FR Doc. E8-11256 Filed 5-20-08; 8:45 am]

BILLING CODE 3710-08-M